DEPARTMENT OF TRANSPORTATION

National Highway Traffic Safety Administration

[Docket No. NHTSA-2017-0097; Notice 1]

General Motors, LLC, Receipt of Petition for Decision of Inconsequential Noncompliance

AGENCY: National Highway Traffic Safety Administration (NHTSA), U.S. Department of Transportation (DOT).

ACTION: Receipt of petition.

SUMMARY: General Motors, LLC (GM), has determined that the seat belt assemblies in certain model year (MY) 2017-2018 Chevrolet Silverado and GMC Sierra heavy duty motor vehicles do not fully comply with Federal Motor Vehicle Safety Standard (FMVSS) No. 209, Seat Belt Assemblies. GM filed a noncompliance report dated September 14, 2017, and amended it on September 22, 2017. GM also petitioned NHTSA on October 6, 2017, for a decision that the subject noncompliance is inconsequential as it relates to motor vehicle safety.

DATES: The closing date for comments on the petition is February 9, 2018.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE, Washington, DC 20590.

• Hand Delivery: Deliver comments by hand to U.S. Department of Transportation, Docket Operations, M-30, West Building Ground Floor, Room W12-140, 1200 New Jersey Avenue SE, Washington, DC 20590. The Docket Section is open on weekdays from 10 a.m. to 5 p.m. except Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: GM has determined that the seat belt assemblies in certain MY 2017-2018 Chevrolet Silverado and GMC Sierra heavy duty motor vehicles do not fully comply with paragraphs S4.4(b)(5) of FMVSS No. 209, Seat Belt Assemblies. GM filed a noncompliance report dated September 14, 2017, and amended it on September 22, 2017, pursuant to 49 CFR part 573, Defect and Noncompliance Responsibility and Reports. GM also petitioned NHTSA on October 6, 2017, pursuant to 49 U.S.C. 30118(d) and 30120(h) and 49 CFR part 556, for an exemption from the notification and remedy requirements of 49 U.S.C. Chapter 301 on the basis that this noncompliance is inconsequential as it relates to motor vehicle safety.

This notice of receipt of GM petition is published under 49 U.S.C. 30118 and 30120 and does not represent any agency decision or other exercise of judgment concerning the merits of the petition.

II. Vehicles Involved: Approximately 38,048 MY 2017-2018 Chevrolet Silverado and GMC Sierra heavy duty motor vehicles, manufactured between July 18, 2016, and August 7, 2017, are potentially involved.

The double cab versions of the subject vehicles are not included in this petition.

III. Noncompliance: GM explains that the noncompliance is that the subject vehicles were equipped with seat belt assemblies that do not conform to the upper-torso seat belt elongation requirements specified in paragraph S4.4(b)(5) of FMVSS No. 209. Specifically, the seat belt assemblies were built with load-limiting torsion bars measuring 9.5 mm on the driver side and 8.0 mm in diameter on the passenger side, instead of 12 mm as specified by GM.

IV. Rule Text: Paragraph S4.4(b)(5) of FMVSS No. 209 states, in pertinent part:

S4.4 Requirements for assembly performance.

. . .

(b) Type 2 seat belt assembly. Except as provided in S4.5, the components of a Type 2 seat belt assembly including webbing, straps, buckles, adjustment and attachment hardware, and retractors shall comply with the following requirements when tested by the procedure specified in S5.3(b): . . .

(5) The length of the upper torso restraint between anchorages shall not increase more than 508 mm when subjected to a force of 11,120N. . . .

V. Summary of GM's Petition: As background, GM stated that smaller diameter torsion bars are regularly used in retractor assemblies in full size trucks—including variants of the subject vehicles—that are subject to S5.1 of FMVSS No. 208, and thus exempt from S4.4(b)(5) of FMVSS No. 209. GM says this is because, when combined with a deploying frontal airbag, the seat belt retractors equipped with lower diameter torsion bars provide at least the same level of occupant protection in frontal crashes while optimizing belt force deflection characteristics. However, the subject vehicles were not certified to S5.1 of FMVSS No. 208 and, accordingly, were not intended to be equipped with these smaller diameter torsion bars because they were required to meet the elongation requirements of S4.4(b)(5) of FMVSS No. 209

GM described the subject noncompliance and stated its belief that the noncompliance is inconsequential as it relates to motor vehicle safety.

In support of its petition, GM submitted the following reasoning:

A. Testing data indicates that the Subject Vehicles Meet the Belted Frontal Crash Performance Testing Requirements of S5.1 of FMVSS No. 208: GM has conducted dynamic frontal crash testing on 2500 series vehicles that were substantially similar to the subject vehicles and were equipped with the same load-limiting seat belt retractors with the lower-diameter torsion bars (the “Tested Vehicles”).¹ The tested vehicles comply with the belted frontal crash performance testing requirements under S5.1.1(a) of FMVSS No. 208.² In fact, the tested vehicles performed below the injury assessment reference limits specified in S5.1.1(a) even when tested at 35 mph, which subjects the vehicle to 36% more energy than at the 30 mph testing standard provided in the regulation. The tested vehicles were also rated by NHTSA with an overall 4-Star NCAP score.

¹ The subject vehicles and tested vehicles share the same frame, body structure, powertrains and under-hood crush space; instrument panel, steering column and wheel, seats, seat-belt anchorages, and general interior vehicle layout/spatial relationships; and driver and passenger frontal airbags. In similar configurations, the subject vehicles and test vehicles have similar mass.

² S5.1.1(a) of FMVSS No. 208 specifies the belted barrier test requirements for certain vehicles not certified to S14 of FMVSS No. 208 (i.e. those with a GVW >8,500 lbs. or an unloaded weight >5,500 lbs).

GM expects that the subject vehicles will perform nearly the same as the tested vehicles in dynamic frontal crash testing, and would therefore also meet all of the belted barrier test requirements specified by S5.1.1(a) of FMVSS No. 208.

GM believes, consistent with NHTSA's past guidance,³ that the dynamic belted frontal barrier crash testing of S5.1.1(a) of FMVSS No. 208 is a more appropriate means to evaluate occupant protection than the static seat belt elongation testing requirements of S4.4(B)(5) of FMVSS No. 209 for vehicles with seat belts equipped with load limiters.

³ In its 1991 rulemaking modifying FMVSS No. 209 to exclude certain dynamically tested seat belts from some of the static seat-belt testing requirements, NHTSA acknowledged that it “has long believed it more appropriate to evaluate the occupant protection afforded by vehicles by conducting dynamic testing . . .” versus static tests such as the elongation requirements in S4.4(b)(5) of FMVSS No. 209. Final Rule, 56 FR 15295, 15295 (April 16, 1991). Further, “[s]ince the dynamic test measures the actual occupant protection which the belt provides during a crash, there is no apparent need to subject that belt to static testing procedures that are surrogate and less direct measures of the protection which the belt would provide to its occupant during a crash.” Notice of Proposed Rulemaking, 55 FR 1681 (January 18, 1990) (emphasis added). NHTSA's rationale for creating these exemptions applies to the subject vehicles even though they may not all technically be “subject to” S5.1 of FMVSS No. 208 and therefore exempt from FMVSS No. 209's elongation requirements.

B. GM believes the subject vehicles will provide no less protection to occupants in a frontal crash than vehicles equipped with seat belt retractors utilizing the 12 mm torsion bars: GM believes that replacing the retractors installed in the subject vehicles with retractors that have the larger torsion bars would not result in an added safety benefit to the occupants of these vehicles in frontal crashes. That is, the subject vehicles will provide no less occupant protection than vehicles built with the larger 12 mm diameter torsion bars that meet the elongation requirements of S4.4(b)(5) of FMVSS No. 209. Further, seat belt retractors equipped with the lower-diameter torsion bars may reduce upper torso injury potential in frontal crashes as compared to retractors with the larger-diameter torsion bars.

C. NHTSA precedent supports granting this petition: NHTSA has previously ruled that failure to comply with certain of FMVSS No. 209's static testing requirements can be inconsequential to motor vehicle safety where the manufacturer demonstrates by dynamic testing that the noncompliant seat belt assembly preforms similarly to a compliant assembly. On May 3, 2002, GM submitted an inconsequentiality petition to NHTSA relating to certain trucks and SUV's that were built with damaged and inoperative “vehicle-sensitive” emergency-locking retractors (ELRs), which lock the seat belts under rapid deceleration. Notwithstanding the noncompliance with FMVSS No. 209 caused by this condition, GM asserted that the failure was inconsequential to vehicle safety because the ELRs in these vehicles also had a redundant “webbing-sensitive” mechanism, which locks the belts when the webbing is rapidly extracted. GM presented dynamic testing data (including some data developed using the test procedures set forth in FMVSS No. 208) demonstrating that the webbing-sensitive system “offered a level of protection nearly equivalent to that provided by a compliant ELR.”

NHTSA granted GM's petition, in part, and ruled the noncompliance in certain of the vehicles subject to the petition was inconsequential to motor vehicle safety:

[O]n the basis of the sled test and simulation data provided by GM, the agency has concluded that GM has adequately demonstrated that the potential safety consequences of the failure of the vehicle-sensitive locking mechanisms in the ELRs in the C/K vehicles to function properly are inconsequential. While the webbing-sensitive systems in these vehicles do allow slightly increased belt payout compared to a functional vehicle-sensitive system, and lock slightly later in crash event, these differences do not appear to expose a vehicle occupant to a significantly greater risk of injury.

General Motors Corporation, Ruling on Petition for Determination of Inconsequential Noncompliance, 69 FR 19897, 19900 (April 14, 2004). In its decision, NHTSA also noted specifically that “the dummy injury measurements did not increase significantly and were well below the maximum values permitted under FMVSS No. 208.”

Here, GM expects that the subject vehicles will provide no less protection to occupants in the designated seating positions in frontal crashes than vehicles equipped with seat belt retractors conforming to S4.4(b) of FMVSS No. 209.

D. GM is not aware of any injuries or customer complaints associated with this condition: After searching VOQ, TREAD and internal GM databases, GM is not aware of any crashes, injuries, or customer complaints associated with this condition.

E. GM has corrected the noncompliance in vehicle production and in service parts inventory: GM has corrected the noncompliance in production. Vehicles produced after August 7, 2017, have seat belt assemblies containing retractor torsion bars that meet GM's original specifications and comply with S4.4(b) of FMVSS No. 209. Retractor assemblies with this condition that were manufactured as service parts are no longer available for sale and all affected inventory has been purged. Any such seat belt assembly previously sold as service parts could only have been installed on a subject vehicle because these seat belt assemblies are not compatible with prior model year (i.e. 2015 or 2016) versions of the Silverado or Sierra HD due to a different type of wiring connector used.

GM concluded by expressing the belief that the subject noncompliance is inconsequential as it relates to motor vehicle safety, and that its petition to be exempted from providing notification of the noncompliance, as required by 49 U.S.C. 30118, and a remedy for the noncompliance, as required by 49 U.S.C. 30120, should be granted.

To view GM's petition, analyses, and test data in their entirety, you can visit https://www.regulations.gov. Follow the online instructions for accessing the dockets and search for the docket ID number for this petition shown in the heading of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that GM no longer controlled at the time it determined that the noncompliance existed. However, any decision on this petition does not relieve vehicle distributors and dealers of the prohibitions on the sale, offer for sale, or introduction or delivery for introduction into interstate commerce of the noncompliant vehicles under their control after GM notified them that the subject noncompliance existed.

Authority: 49 U.S.C. 30118, 30120: delegations of authority at 49 CFR 1.95 and 501.8.

Jeffrey M. Giuseppe,
Associate Administrator for Enforcement.

[FR Doc. 2018-00221 Filed 1-9-18; 8:45 am]

BILLING CODE 4910-59-P